DEPARTMENT OF THE INTERIOR

Fish and Wildlife Service

Availability of an Environmental Assessment and Receipt of an Application for an Incidental Take Permit for Beach Driving and Related Activities in St. Johns County, FL

AGENCY: Fish and Wildlife Service, Interior.

ACTION: Notice.

SUMMARY: St. Johns County (Applicant) is seeking an incidental take permit (ITP) from the Fish and Wildlife Service (Service) pursuant to Section 10(a)(1)(B) of the Endangered Species Act of 1973 (Act), as amended. The Applicant anticipates that authorization of beach driving and related activities, over a requested permit term of 20 years, will result in the incidental taking of the endangered Anastasia Island beach mouse (Peromyscus polionotus phasma), leatherback sea turtle (Dermochelys coriacea), green sea turtle (Chelonia mydas), Kemp's ridley sea turtle (Lepidochelys kempi), and hawksbill sea turtle (Eretmochelys imbricata), as well as the threatened loggerhead sea turtle (Caretta caretta). The anticipated taking of these federally listed species is incidental to otherwise legal vehicle operation on the beaches of St. Johns County, pursuant to the Beach and Shore Preservation Act of 1998, section 161.36, Florida Statutes.

A description of the mitigation and minimization measures outlined in the Applicant's Habitat Conservation Plan (HCP) to address the effects of the beach access and beach access-related activities on federally listed species is described further in the SUPPLEMENTARY INFORMATION section below. The Service has made a preliminary determination that the issuance of the Permit is not a major Federal action significantly affecting the quality of the human environment within the meaning of section 102(2)(C) of NEPA. This preliminary information may be revised due to public comment received in response to this notice and is based on information contained in the Environmental Assessment (EA) and HCP. Copies of the HCP and EA may be obtained by making a request to the Regional Office (see ADDRESSES). Requests must be in writing to be processed. This Notice is provided pursuant to section 10 of the Endangered Species Act and NEPA regulations (40 CFR 1506.6).

DATES: Written comments on the permit application, supporting documentation, EA and HCP should be sent to the Service's Regional Office (see ADDRESSES) and should be received on or before November 7, 2005.

ADDRESSES: Persons wishing to review the application, HCP, and EA may obtain a copy by writing the Service's Southeast Regional Office, Atlanta, Georgia. Please reference permit number TE091980-0 in such requests. Documents will also be available for public inspection by appointment during normal business hours at the Regional Office, 1875 Century Boulevard, Suite 200, Atlanta, Georgia 30345 (Attn: Endangered Species Permits), or Field Supervisor, U.S. Fish and Wildlife Service, 6620 Southpoint Drive South, Suite 310, Jacksonville, Florida 32216-0912.

FOR FURTHER INFORMATION CONTACT: Mr. David Dell, Regional Permit Coordinator, (see ADDRESSES above), telephone: 404/679-7110; or Mr. Michael Jennings, Fish and Wildlife Biologist, Jacksonville Field Office, (see ADDRESSES above), telephone: 904/232-2580, extension 113.

SUPPLEMENTARY INFORMATION: If you wish to comment, you may submit comments by any one of several methods. Please reference permit number TE091980-0 in such comments. You may mail comments to the Service's Regional Office (see ADDRESSES). You may also comment via the Internet to david_dell@fws.gov. Please submit comments over the internet as an ASCII file avoiding the use of special characters and any form of encryption. Please also include your name and return address in your internet message. If you do not receive a confirmation from the Service that we have received your internet message, contact us directly at either of the telephone numbers listed below (see FOR FURTHER INFORMATION CONTACT). Finally, you may hand deliver comments to either of the Service offices listed above (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Anastasia Island beach mice are restricted to 14 linear miles along the Atlantic Ocean coast of Anastasia Island, St. Johns County, Florida. They are found primarily at the southern (Fort Matanzas National Monument) and northern (Anastasia State Recreation Area) ends of the island, although low densities of beach mice probably remain along the entire length of the island where residential construction has reduced and fragmented coastal dunes. Physically, Anastasia Island beach mice are relatively large compared to other subspecies of beach mice. However, like most other subspecies, they prefer primary and secondary dune habitats composed of a variety of dune-colonizing vegetation. Beach mice typically live in burrows constructed in coastal sand dunes. They eat a variety of seeds, but appear to prefer sea oats (Uniola paniculata) and dune panic grass (Panicum amarum) along with small invertebrates.

Three species of sea turtles nest on the beaches of St. Johns County. On average 268 loggerhead, eight green, and one leatherback sea turtles annually nest along St. Johns County's 42 miles of coastline. Neither hawksbill or Kemp's ridley turtles have been documented to nest in St. Johns County.

While the mechanism remains largely unknown, nesting sea turtles return to their natal beaches when they are reproductively mature. Once a gravid female reaches her selected nesting beach, she hauls herself from the sea, crawls to an area above the mean high water line (in St. Johns County this is usually at the toe of the primary dune), excavates an egg chamber, deposits 80 to135 eggs (the number depends on the species), covers the egg chamber, and returns to the sea. This process typically takes about one and a half hours and, except for the Kemp's ridley, usually occurs at night. Loggerhead turtles nest from late April to mid September, green turtles from late May to mid September, and leatherback turtles from late February to July. Artificial lights, obstructions (e.g., groins, escarpments, beach furniture, and armoring structures), night-time human activity on nesting beaches, and predation are known or suspected to deter turtles from nesting.

Sea turtle eggs incubate within the warm, moist egg chamber for 50 to 75 days (depending on the species). Incubating eggs are vulnerable to crushing, drowning, or washout. Along St. Johns County's coastline, trampling by humans and vehicles can crush sea turtle nests. Sea turtle eggs can withstand occasional inundation associated with spring tides, but repeated or long-duration inundation typically associated with storm events can drown eggs. During storm events, sea turtle nests are often washed out. Nests deposited between an armoring structure and the sea are more vulnerable to washout.

After hatching, young sea turtles dig upward to the beach surface and immediately crawl toward the sea. Hatchling emergence typically occurs at night. Factors affecting the survival of hatchling sea turtles include compaction of sand on top of the egg chamber, predation, and disorientation due to artificial lighting. Pedestrian traffic and heavy equipment use may cause compaction of sand and create an impenetrable substrate for hatchling turtles that ultimately results in their death. Following successful emergence at the beach surface, hatchlings are vulnerable to terrestrial and aerial predators. Raccoons, domestic cats, ghost crabs, and a variety of sea birds often take hatchling sea turtles. Because hatchling sea turtles orient to ambient light reflected by the sea surface, artificial light sources can interfere with the ability of hatchlings to correctly orient towards the sea. Often, disoriented hatchlings are attracted towards the source of the artificial light and away from the sea. Disoriented hatchlings typically die from dessication, predation, or exhaustion.

The Applicant authorizes beach driving for a variety of purposes, all of which are otherwise legal activities. Local public safety and/or operations staff, law enforcement and emergency response vehicles may operate on about 41.1 linear miles of beach within St. Johns County, but the amount of vehicle traffic on county beaches resulting from these entities is relatively small compared with recreational traffic resulting from use by the general public. Vehicle traffic from the general public is limited to about 16.3 linear miles of beach.

Authorized beach driving and beach driving-related activities may result in the incidental taking of the Anastasia Island beach mouse and the species of sea turtles described above. The Applicant anticipates harm or harassment of species covered by the HCP due to the following beach driving and beach driving related activities: (1) Public safety operations, such as those that are provided by lifeguards, emergency vehicles, and law enforcement vehicles; (2) public vehicular access; (3) routine beach maintenance and sanitation; (4) access ramp maintenance; (5) actions necessary to implement the terms and conditions of the ITP; (6) planned coastal construction projects properly permitted by local, State, and/or Federal regulatory agencies, such as seawall repairs, beach nourishment, dune restoration, and removal of windblown sand, where no reasonable upland alternative exists; (7) scientific monitoring and studies not covered under the original ITP; (8) emergency shoreline protection projects properly permitted by local, State, and/or Federal regulatory agencies; and (9) non-routine beach maintenance and sanitation, such as removal of hazardous materials, removal of storm-generated debris and/or obstacles that pose a public health or safety risk and other atypical circumstances requiring beach access (e.g., boat groundings, downed aircraft, etc.).

To minimize and mitigate the anticipated incidental take of species covered by the HCP, the Applicant proposes to implement a number of protective measures that will spatially and temporally reduce interactions between vehicles and sea turtles and their nests. The following actions are proposed by the Applicant: (1) Limit most public vehicle access to the beach from 8:00 a.m. to 8:00 p.m. daily from May 1 through October 31; (2) develop and implement a rut removal program; (3) develop and implement a public awareness program; (4) elevate trash receptacles; (5) expand existing no-driving conservation zones; (6) reduce public access along portions of the beach; (7) develop and implement a consistent county-wide beach lighting management program; (8) develop and implement a beach horseback riding registration and education program; (9) undertake dune restoration programs; (10) monitor and mark sea turtle nests within the area covered by the HCP; and (11) increase local law enforcement staff to enforce existing ordinances and the terms of the incidental take permit.

The Service has made a preliminary determination that issuance of the requested ITP is not a major Federal action significantly affecting the quality of the human environment within the meaning of Section 102(2)(C) of NEPA. This preliminary information may be revised due to public comment received in response to this notice and is based on information contained in the EA and HCP.

The Service will evaluate the HCP and comments submitted thereon to determine whether the application meets the issuance criteria requirements of section 10(a)(1)(B) of the Act. By conducting an intra-Service section 7 consultation the Service will also evaluate whether issuance of the section 10(a)(1)(B) ITP would comply with section 7 of the Act. The results of this consultation, in combination with the above findings, will be used in the final analysis to determine whether or not to issue the ITP for the five species of sea turtle and the Anastasia Island beach mouse.

Dated: August 6, 2005.
Cynthia K. Dohner,
Acting Regional Director, Southeast Region.

[FR Doc. 05-17677 Filed 9-6-05; 8:45 am]

BILLING CODE 4310-55-P